DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) •Elevation in feet (NAVD)
NORTH CAROLINA
Currituck County (FEMA Docket No. D-7606)
Moyock Run:
Approximately 100 feet upstream of South Mills Road (S.R. 1227) | •10
Approximately 1.1 miles upstream of South Mills Road (S.R. 1227) | •11
Currituck County (Unincorporated Areas)
Atlantic Ocean:
Approximately 500 feet west of the intersection of Spindrift Trail and Land Fall Court | •7
At the Virginia State Boundary | •16
Currituck County (Unincorporated Areas)
Currituck Sound:
At the northeast corner of the intersection of Brabble Street and Highway 168 | •4
Approximately 0.6 mile east of the intersection of Red Dog Lane and Highway 158 | •8
Currituck County (Unincorporated Areas)
Maps available for inspection at the Currituck County Planning and Inspections Department, 153 Courthouse Road, Currituck, North Carolina.
———
Johnston County (FEMA Docket Nos. D-7574 and D-7606)
East Mingo Creek:
At the confluence with Mingo Swamp | •220
Approximately 0.3 mile downstream of Dennig Road | •244
Town of Benson, Johnston County (Unincorporated Areas)
Mingo Swamp:
At the Johnston/Sampson county line | •172
Approximately 0.7 mile upstream of Red Hill Church Road | •255
Town of Benson, Johnston County (Unincorporated Areas)
Mingo Swamp Tributary 2:
At the Johnston Harnett county line | •205
Approximately 400 feet upstream of Hodges Chapel Road | •244
Town of Benson, Johnston County (Unincorporated Areas)
Arters Branch:
Approximately 0.6 mile upstream of the confluence with the Neuse River | •124
Approximately 300 feet upstream of North Johnson Road | •155
Town of Smithfield, Johnston County (Unincorporated Areas)
Bawdy Creek:
Approximately 1.3 miles upstream of the confluence with the Neuse River | •88
At the confluence of Bawdy Swamp and Quincosin Swamp | •110
Johnston County (Unincorporated Areas)
Bawdy Swamp:
At the confluence of Bawdy Creek and Quincosin Swamp | •110
Approximately 0.8 mile upstream of U.S. Route 70 | •160
Johnston County (Unincorporated Areas)
Beaverdam Branch:
Approximately 0.5 mile upstream of the confluence with Middle Creek | •173
Approximately 100 feet downstream of Raleigh Road | •183
Johnston County (Unincorporated Areas)
Beaverdam Creek:
At the Wayne/Johnston County boundary | •124
Approximately 450 feet downstream of East Edwards Street | •141
Town of Princeton, Johnston County (Unincorporated Areas)
Beaverdam Swamp:
Approximately 0.3 mile upstream of the confluence with Hannah Creek | •129
Approximately 1,300 feet upstream of Tettersville Road | •151
Johnston County (Unincorporated Areas)
Beddingfield Creek:
Approximately 0.5 mile downstream of Wake/Johnston County boundary | •164
Approximately 1.0 mile downstream of the confluence with the Neuse River | •166
Johnston County (Unincorporated Areas)
Bernal Branch:
Approximately 1,250 feet downstream of Interstate 95 | •129
Approximately 1.6 miles upstream of Railroad | •185
Johnston County (Unincorporated Areas)
Big Arm Creek:
At the confluence of Marks Creek | •163
Approximately 0.5 mile upstream of Medlin Road | •184
Town of Clayton, Johnston County (Unincorporated Areas)
Big Branch:
At the confluence with Little River | •141
Approximately 0.3 mile upstream of Micro Road West | •183
Town of Micro, Johnston County (Unincorporated Areas)
Black Creek:
Approximately 300 feet upstream of Highway 210 | •191
At the Wake/Johnston County boundary | •213
Johnston County (Unincorporated Areas)
Black Creek Tributary:
Approximately 1,750 feet upstream of the confluence with Black Creek | •185
Approximately 2.5 miles upstream of the confluence with Black Creek | •212
Johnston County (Unincorporated Areas)
Buffalo Creek (East):
At the upstream side of N.C. 42 | •205
At the Wake/Johnston County boundary | •246
Johnston County (Unincorporated Areas)
Bull Branch:
At the confluence with Moccasin Creek | •152
Approximately 2.3 miles upstream of the confluence with Moccasin Creek | •218
Johnston County (Unincorporated Areas)
Burnt Stocking Branch:
At the confluence with Little Creek (near Micro) | •139
Approximately 0.3 mile downstream of Interstate 95 | •169
Johnston County (Unincorporated Areas)
Camp Branch:
Approximately 1,300 feet upstream of the confluence with Black Creek | •162
Approximately 0.3 mile upstream of Stephenson Road | •177
Johnston County (Unincorporated Areas)
Cattail Creek:
At the confluence with Little River | •182
Approximately 900 feet upstream of Harris Wilson Road | •274
Johnston County (Unincorporated Areas)
Cooper Branch:
Approximately 0.2 mile upstream of Little Creek Church Road | •142
Approximately 0.4 mile upstream of Little Creek Church Road | •144
Johnston County (Unincorporated Areas)
Dicks Branch:
Approximately 2,000 feet upstream of the confluence with Black Creek | •159
Approximately 1,980 feet upstream of Zacks Mill Road | •172
Johnston County (Unincorporated Areas)
Dismal Branch:
At the confluence with Johnson Swamp | •129
Approximately 300 feet downstream of Interstate 40 | •149
Johnston County (Unincorporated Areas)
Great Swamp:
At the Wayne/Johnston County boundary | •160
Approximately 150 feet upstream of the Wayne/Johnston County boundary | •161
Johnston County (Unincorporated Areas)
Hannah Creek:
Approximately 0.5 mile upstream of the confluence of Stony Fork | •134
Approximately 0.5 mile upstream of Interstate 40 | •168
Town of Benson, Johnston County (Unincorporated Areas)
Hannah Creek Tributary 2:
At the confluence with Hannah Creek | •147
Approximately 500 feet upstream of Tarheel Road | •184
Town of Benson, Johnston County (Unincorporated Areas)
Hardee Mill Branch:
Approximately 1,900 feet upstream of the confluence with Black Creek | •158
Approximately 0.8 mile upstream of Benson Hardee Road | •177
Johnston County (Unincorporated Areas)
Hogpen Branch:
At the confluence with Bernal Branch | •136
Approximately 0.5 mile upstream of Hummingbird Road | •152
Johnston County (Unincorporated Areas)
John K. Swamp:
At the confluence with Mill Creek | •149
Approximately 0.7 mile upstream of Holly Grove Road | •188
Johnston County (Unincorporated Areas)
John K. Swamp Tributary:
At the confluence with John K. Swamp | •186
Approximately 720 feet upstream of the confluence with John K. Swamp | •187
Johnston County (Unincorporated Areas)
Johnson Swamp:
At the confluence with Stone Creek | •121
Approximately 1,200 feet upstream of Highway 96 | •172
Johnston County (Unincorporated Areas)
Johnson Swamp Tributary:
At the confluence with Johnson Swamp | •146
Approximately 950 feet upstream of Highway 96 | •169
Johnston County (Unincorporated Areas)
Jumping Run:
At the confluence with Mill Creek | •158
Approximately 1.1 miles upstream of Jumping Run Road | •191
Johnston County (Unincorporated Areas)
Juniper Swamp:
Approximately 500 feet upstream of Webb Mill Road | •112
Approximately 1,650 feet upstream of Interstate 95 | •158
Town of Four Oaks, Johnston County (Unincorporated Areas)
Juniper Swamp Tributary 1:
At the confluence with Juniper Swamp | •119
Approximately 1.6 miles upstream of the confluence with Juniper Swamp | •157
Town of Four Oaks, Johnston County (Unincorporated Areas)
Juniper Swamp Tributary 2:
At the confluence with Juniper Swamp Tributary 1 | •132
Approximately 350 feet downstream of Keen Road | •155
Town of Four Oaks, Johnston County (Unincorporated Areas)
Little Bernal Branch:
At the confluence with Bernal Branch | •155
Approximately 0.4 mile upstream of the confluence with Bernal Branch | •157
Little Black Creek:
At the confluence with Black Creek | •191
At the Wake/Johnston County boundary | •228
Johnston County (Unincorporated Areas)
Little Buffalo Creek:
At the confluence with Little River | •147
Approximately 1.4 miles upstream of Meadow Road | •197
Johnston County (Unincorporated Areas)
Little Buffalo Creek Tributary:
At the confluence with Little Buffalo Creek | •151
Approximately 100 feet downstream of Wilson/Johnston County boundary | •169
Town of Kenly, Johnston County (Unincorporated Areas)
Little Creek:
Approximately 0.6 mile upstream of Shotwell Road | •279
Approximately 0.6 mile downstream of the Wake/Johnston County boundary | •320
Town of Clayton, Johnston County (Unincorporated Areas)
Little Creek (into Middle Creek):
Approximately 0.7 mile upstream of the confluence with Middle Creek | •205
At the Wake/Johnston County boundary | •219
Johnston County (Unincorporated Areas)
Little Creek (Basin 11, Stream 2):
At the confluence with Moccasin Creek | •209
At the Wake/Johnston County boundary | •217
Johnston County (Unincorporated Areas)
Little Creek (near Micro):
Approximately 0.4 mile upstream of Bizzell Grove Church Road | •124
Approximately 0.5 mile upstream of Hawkins Road | •184
Town of Micro, Johnston County (Unincorporated Areas)
Little River:
Approximately 0.6 mile upstream of Wayne/County boundary | •108
At the Wake/Johnston County boundary | •216
Town of Kenly, Town of Princeton, Town of Micro, Johnston County (Unincorporated Areas)
Little River Tributary 1:
Approximately 0.3 mile upstream of the confluence with Little River | •175
Approximately 0.4 mile upstream of N.C. 42 | •213
Johnston County (Unincorporated Areas)
Little Swamp Branch:
At the confluence with John K. Swamp | •168
Approximately 0.5 mile upstream of T Bar Road | •177
Johnston County (Unincorporated Areas)
Long Branch:
Approximately 650 feet downstream of Shoeheel Road | •158
Approximately 0.7 mile upstream of N.C. 96 | •212
Johnston County (Unincorporated Areas)
Marks Creek:
Approximately 0.8 mile downstream of Pritchard Road | •159
At the Wake/Johnston County boundary | •176
Town of Clayton, Johnston County (Unincorporated Areas)
McCullens Branch:
Approximately 0.7 mile upstream of the confluence with Black Creek | •162
Approximately 0.5 mile upstream of Clayton Road | •194
Johnston County (Unincorporated Areas)
Mill Creek (South):
Approximately 0.7 mile upstream of the confluence of Stone Creek | •105
Approximately 0.6 mile upstream of Godwin Lake Road | •193
Johnston County (Unincorporated Areas)
Mill Creek (near Clayton):
At the confluence with the Neuse River | •145
Approximately 1.1 miles upstream of Motorcycle Road | •202
Town of Clayton, Johnston County (Unincorporated Areas)
Mill Creek (near Selma):
Approximately 0.6 mile upstream of the confluence with the Neuse River | •131
Approximately 1.4 miles upstream of River Road | •165
Town of Selma, Johnston County (Unincorporated Areas)
Mill Creek Tributary 2:
Approximately 0.6 mile upstream of the confluence with Mill Creek | •97
Approximately 300 feet upstream of Bentonville Road | •138
Johnston County (Unincorporated Areas)
Mill Creek Tributary 3:
Approximately 0.5 mile upstream of the confluence with Mill Creek | •99
Approximately 0.4 mile upstream of Shaws Pond Road | •121
Johnston County (Unincorporated Areas)
Mill Creek Tributary 4:
At the confluence with Mill Creek | •115
Approximately 1,980 feet upstream of Harper House Road | •146
Johnston County (Unincorporated Areas)
Mill Creek Tributary 5:
At the confluence with Mill Creek | •122
Approximately 0.5 mile upstream of Randall Chapel Road | •146
Johnston County (Unincorporated Areas)
Mill Creek Tributary 6:
Approximately 0.6 mile upstream of the confluence with Mill Creek | •97
Approximately 0.4 mile upstream of Scout Road | •129
Johnston County (Unincorporated Areas)
Mill Swamp Branch:
At the confluence with John K. Swamp | •163
Approximately 400 feet upstream of Holly Grove Road | •182
Johnston County (Unincorporated Areas)
Moccasin Creek (near Princeton):
Approximately 0.4 mile upstream of U.S. Route 70 | •127
Approximately 800 feet downstream of Railroad | •140
Town of Pine Level, Town of Princeton, Johnston County (Unincorporated Areas)
Moccasin Creek:
At the Johnston/Wilson County boundary | •152
At interstate 264 | •219
Johnston County (Unincorporated Areas)
Moccasin Creek Tributary 1:
At the confluence with Moccasin Creek | •164
Approximately 0.5 mile upstream of N.C. 222 | •205
Johnston County (Unincorporated Areas)
Moccasin Creek Tributary 2:
At the confluence with Moccasin Creek | •166
Approximately 0.3 mile upstream of N.C. 222 | •214
Johnston County (Unincorporated Areas)
Oak Creek:
At the confluence with Stone Creek | •112
Approximately 1.1 miles upstream of White Oak Road | •152
Johnston County (Unincorporated Areas)
Oak Creek Tributary:
At the confluence with Oak Creek | •116
Approximately 1.2 miles upstream of the confluence with Oak Creek | •133
Johnston County (Unincorporated Areas)
Pole Branch:
At the confluence with Black Creek | •148
Approximately 0.4 mile upstream of Interstate 40 | •168
Johnston County (Unincorporated Areas)
Polecat Branch:
Approximately 1.1 miles downstream of Brogden Road | •113
Approximately 2.2 miles upstream of Brogden Road | •137
Town of Smithfield, Johnston County (Unincorporated Areas)
Quincosin Swamp:
At the confluence of Bawdy Creek and Bawdy Swamp | •110
Approximately 2,000 feet downstream of U.S. Route 70 | •138
Johnston County (Unincorporated Areas)
Reedy Creek:
At King Mill Road | •140
Approximately 1.3 miles upstream of King Mill Road | •163
Johnston County (Unincorporated Areas)
Reedy Prong:
At the confluence with Mill Creek | •139
Approximately 0.9 mile upstream of Eldridge Road | •152
Johnston County (Unincorporated Areas)
Reedy Prong Tributary:
At the confluence with Reedy Prong | •150
Approximately 200 feet upstream of Thornton Road | •162
Johnston County (Unincorporated Areas)
Sams Creek:
Approximately 0.7 mile upstream of the confluence with the Neuse River | •155
Approximately 0.4 mile downstream of City Road | •210
Town of Clayton, Johnston County (Unincorporated Areas)
Snipes Creek:
At the confluence with Little River | •204
At the Wake/Johnston County boundary | •285
Johnston County (Unincorporated Areas)
Spring Branch (into Little River):
At the upstream side of Princeton Kenly Road | •124
Approximately 200 feet downstream of Cuddington Road | •214
Johnston County (Unincorporated Areas)
Spring Branch Tributary:
At the confluence with Spring Branch (into Little River) | •130
Approximately 1.6 miles upstream of Rhodes Road | •211
Johnston County (Unincorporated Areas)
Stone Creek:
Just upstream of U.S. Highway 701 | •108
Approximately 0.4 mile upstream of Interstate 40 | •205
Johnston County (Unincorporated Areas)
Stone Creek Tributary:
At the confluence with Stone Creek | •156
Approximately 0.5 mile upstream of Adams Road | •185
Johnston County (Unincorporated Areas)
Stony Fork:
Approximately 200 feet upstream of Railroad | •148
Approximately 0.6 mile upstream of Shade Tree Road | •164
Johnston County (Unincorporated Areas)
Stony Fork Tributary:
At the confluence with Stony Fork | •153
Approximately 300 feet upstream of Interstate 40 | •179
Johnston County (Unincorporated Areas) |
Town of Benson
Maps available for inspection at the Benson Town Hall, Zoning Department, 303 East Church Street, Benson, North Carolina.
Town of Clayton
Maps available for inspection at the Clayton Town Hall, Planning Department, 111 East 2nd Street, Clayton, North Carolina.
Town of Four Oaks
Maps available for inspection at the Four Oaks Town Hall, 304 North Main Street, Four Oaks, North Carolina.
Johnston County (Unincorporated Areas)
Maps available for inspection at the Johnston County Public Utilities Office, 309 East Market Street, Smithfield, North Carolina.
Town of Micro
Maps available for inspection at the Micro Town Hall, 112 West Main Street, Micro, North Carolina.
Town of Pine Level
Maps available for inspection at the Pine Level Town Hall, 214 North Peedin Avenue, Pine Level, North Carolina.
Town of Princeton
Maps available for inspection at the Town of Princeton Public Utilities Office, 309 East Market Street, Princeton, North Carolina.
Town of Selma
Maps available for inspection at the Town of Selma Planning Department, 100 North Raiford Street, Selma, North Carolina.
Town of Smithfield
Maps available for inspection at the Smithfield Town Hall, 350 East Market Street, Smithfield, North Carolina.
Town of Wilson's Mills
Maps available for inspection at the Wilson's Mills Town Hall, 22 Fire Department Road, Wilson's Mills, North Carolina.
———
Onslow County (FEMA Docket Nos. D-7554 and D-7608)
Atlantic Ocean:
At Intracoastal Waterway and Salliers Bay confluence | •8
Approximately 2,000 feet east of River Drive and New River Inlet Road intersection | •18
Unincorporated Areas of Onslow County
Atlantic Ocean:
At intersection of Chadwick Access Road and Carroll Street | •8
Approximately 1,500 feet northeast of the intersection of Canal Street and 1st Street | •11
Onslow County (Unincorporated Areas)
Atlantic Ocean:
Approximately 0.55 mile north of the intersection of 2nd Avenue and Highway 210 | •8
At intersection of Heron Cam Court and Highway 210 | •12
Town of North Topsail Beach
Back Swamp:
At Duplin/Onslow County boundary | •57
Approximately 0.7 mile upstream of Dell Brock Road | •90
Onslow County (Unincorporated Areas)
Back Swamp Tributary 1:
At confluence with Back Swamp | •58
Approximately 0.8 mile upstream of Futrell Road | •85
Onslow County (Unincorporated Areas)
Back Swamp Tributary 3:
At confluence with Back Swamp | •60
Approximately 2.2 miles upstream of the confluence with Back Swamp | •85
Onslow County (Unincorporated Areas)
Back Swamp Tributary 6:
At confluence with Back Swamp | •66
Approximately 1.4 miles upstream of the confluence with Back Swamp | •81
Onslow County (Unincorporated Areas)
Back Swamp Tributary 7:
At confluence with Back Swamp | •66
Approximately 1.3 miles upstream of the confluence with Back Swamp | •79
Onslow County (Unincorporated Areas)
Back Swamp Tributary 8:
At confluence with Back Swamp | •70
Approximately 0.8 mile upstream of the confluence with Back Swamp | •79
Onslow County (Unincorporated Areas)
Back Swamp Tributary 9:
At confluence with Back Swamp | •71
Approximately 250 feet upstream of Haw Branch Road | •82
Onslow County (Unincorporated Areas)
Back Swamp Tributary 10:
At confluence with Back Swamp | •78
Approximately 0.9 mile upstream of the confluence with Back Swamp | •89
Onslow County (Unincorporated Areas)
Back Swamp Tributary 11:
At confluence with Back Swamp | •81
Approximately 0.5 mile upstream of the confluence with Back Swamp | •85
Onslow County (Unincorporated Areas)
Bachelor's Delight Swamp:
At the confluence with New River | •9
Approximately 0.5 mile upstream of the confluence of Bachelor's Delight Swamp Tributary 2 | •29
Unincorporated Areas of Onslow County
Bachelor's Delight Swamp Tributary:
Approximately 0.5 mile upstream of the confluence with Bachelor's Delight Swamp | •30
Approximately 1,150 feet upstream of Timothy Road | •34
Unincorporated Areas of Onslow County
Bachelor's Delight Swamp Tributary 2:
At the confluence with Bachelor's Delight Swamp | •21
Approximately 1,400 feet upstream of the confluence with Bachelor's Delight Swamp | •26
Unincorporated Areas of Onslow County
Bear Creek:
Approximately 150 feet downstream of NC 172 | •9
Approximately 1.4 miles upstream of NC 172 | •31
Unincorporated Areas of Onslow County
Bearhead Creek:
Approximately 0.8 mile upstream of the confluence with Wallace Creek | •3
Approximately 1.3 miles upstream of Holcomb Boulevard | •21
Unincorporated Areas of Onslow County, City of Jacksonville
Bell Swamp:
Approximately 800 feet upstream of NC 172 | •10
Approximately 0.5 mile upstream of Hubert Boulevard. | •32
Unincorporated Areas of Onslow County
Big Shakey Swamp:
At confluence with Juniper Swamp | •43
Approximately 2.1 miles upstream of the confluence with Juniper Swamp | •50
Onslow County (Unincorporated Areas)
Blue Creek:
Approximately 1.4 miles upstream of Richlands Highway | •18
Approximately 300 feet upstream of Pony Farm Road | •44
Unincorporated Areas of Onslow County
Brick Kiln Branch (at White Oak River):
At the confluence with White Oak River | •11
Approximately 0.5 mile upstream of the confluence with White Oak River | •17
Unincorporated Areas of Onslow County
Cartwheel Branch:
At the confluence with Holland Mill Creek | •8
Approximately 125 feet upstream of Swansboro Loop Road | •10
Unincorporated Areas of Onslow County
Chinkapin Branch:
At the confluence with White Oak River | •38
Approximately 1.7 miles upstream of the confluence with White Oak River | •42
Unincorporated Areas of Onslow County
Cogdels Creek:
Approximately 100 feet upstream of the confluence with New River | •3
Approximately 0.5 mile upstream of Sneads Ferry Road | •24
Unincorporated Areas of Onslow County
Cowford Branch:
At the confluence with New River | •39
Approximately 0.56 mile upstream of State Route 24 | •51
Unincorporated Areas of Onslow County
Cowhead Creek:
Approximately 0.6 mile upstream of the confluence with Frenchs Creek | •3
Approximately 2.5 miles upstream of Sneads Ferry Road | •35
Unincorporated Areas of Onslow County, City of Jacksonville
Cowhorn Swamp:
Approximately 950 feet upstream of the confluence with Jenkins Swamp | •32
Approximately 0.6 mile upstream of Hoffmann Forest Road | •52
Unincorporated Areas of Onslow County
Cypress Branch:
At the Onslow/Pender County boundary | •8
Approximately 1.2 miles upstream of the Bishop Road | •34
Town of Holly Ridge, Onslow County (Unincorporated Areas)
Deep Run:
At the confluence with Southwest Creek | •27
Approximately 0.8 mile upstream of Ben Williams Road | •51
Unincorporated Areas of Onslow County
Flat Swamp:
At confluence with Juniper Swamp | •37
Approximately 2.3 miles upstream of Preston Wells Road | •61
Town of Holly Ridge, Onslow County (Unincorporated Areas)
Freemans Creek:
At the confluence with White Oak River | •9
Approximately 0.7 mile upstream of the confluence with White Oak River | •9
Unincorporated Areas of Onslow County
Frenchs Creek:
At the confluence of Jumping Run | •3
Approximately 0.6 mile upstream of Marine Road | •16
Unincorporated Areas of Onslow County, City of Jacksonville
Gibson Branch:
At the confluence of White Oak River | •24
Approximately 1.1 miles upstream of White Oak River Road | •41
Unincorporated Areas of Onslow County
Grants Creek:
At the confluence of White Oak River | •9
Approximately 700 feet upstream of the confluence of Halls Branch (Cummins Creek) | •14
Unincorporated Areas of Onslow County
Half Moon Creek:
At the confluence with New River | •9
Approximately 1.3 miles upstream of Ramsey Road | •44
Unincorporated Areas of Onslow County, City of Jacksonville
Half Moon Creek Tributary 1:
At the confluence with Half Moon Creek | •24
Approximately 1,830 feet upstream of the confluence with Half Moon Creek | •28
Unincorporated Areas of Onslow County
Hargetts Creek:
Approximately 1.4 miles upstream of the confluence with White Oak River | •9
Approximately 1,100 feet downstream of Sloan Farm Road | •15
Unincorporated Areas of Onslow County
Harris Creek:
At the confluence with Southwest Creek | •24
Approximately 1,900 feet upstream of Harris Creek Road | •42
Unincorporated Areas of Onslow County
Harris Creek Tributary 1:
At the confluence with Harris Creek | •32
Approximately 500 feet upstream of Burgaw Highway | •39
Unincorporated Areas of Onslow County
Haws Run:
At the confluence with Southwest Creek | •18
Approximately 1.0 mile upstream of Haws Run Road | •40
Unincorporated Areas of Onslow County
Haws Run Tributary 1:
At the confluence with Haws Run | •23
Approximately 1,000 feet upstream of the confluence with Haws Run | •23
Unincorporated Areas of Onslow County
Haws Run Tributary 2:
At the confluence with Haws Run | •27
Approximately 200 feet upstream of Harris Creek Road | •33
Unincorporated Areas of Onslow County
Hicks Run:
At the confluence with Southwest Creek | •6
Approximately 0.9 mile upstream of High Hill Road | •46
Unincorporated Areas of Onslow County, City of Jacksonville
Holand Mill Creek:
Approximately 1.9 miles upstream of the confluence with White Oak River | •8
Approximately 1,250 feet upstream of Belgrade Swansboro Road | •21
Unincorporated Areas of Onslow County
Holly Shelter Creek:
At the Onslow/Pender County boundary | •36
Approximately 0.2 mile downstream of Hardy Graham Road | •62
Onslow County (Unincorporated Areas)
Horse Swamp:
At the confluence with Little Northeast Creek | •14
Approximately 1.4 miles upstream of Rockey Run Road | •36
Unincorporated Areas of Onslow County
Jenkins Swamp:
At confluence with New River | •24
Approximately 0.4 mile upstream of SR1003 Comfort Road | •55
Unincorporated Areas of Onslow County
Jumping Run:
At the confluence with Frenchs Creek | •3
Approximately 1.2 miles upstream of Sneads Ferry Road | •26
Unincorporated Areas of Onslow County, City of Jacksonville
Juniper Swamp:
At the Onslow/Pender County boundary | •35
Approximately 4.7 miles upstream of State Highway 50 | •55
Onslow County (Unincorporated Areas)
Juniper Swamp Tributary 1:
At the confluence with Juniper Swamp | •37
Approximately 350 feet upstream of U.S. Highway 50 | •43
Onslow County (Unincorporated Areas)
Juniper Swamp Tributary 2:
At the confluence with Juniper Swamp | •44
Approximately 1.6 miles upstream of the confluence with Juniper Swamp | •59
Onslow County (Unincorporated Areas)
Kings Creek Tributary 1:
At the confluence with Kings Creek | •8
Approximately 2.1 miles upstream of Holly Ridge-Sneads Ferry Road | •57
Onslow County (Unincorporated Areas)
Little Northeast Creek:
At the confluence with Northeast Creek | •2
Approximately 3.0 miles upstream of the confluence with Horse Swamp | •28
Unincorporated Areas of Onslow County, City of Jacksonville
Mill Run:
At the confluence with Southwest Creek | •3
Approximately 2.3 miles upstream of Verona Road | •37
Unincorporated Areas of Onslow County
Mill Swamp:
At the confluence with New River | •24
Approximately 1,000 feet upstream of North Wilmington Street | •35
Unincorporated Areas of Onslow County, Town of Richlands
Moores Creek:
At the Onslow/Pender County boundary | •43
Approximately 1.6 miles upstream of Andemora Road | •66
Onslow County (Unincorporated Areas)
Moores Creek Tributary 1:
At the Onslow/Pender County boundary | •51
Approximately 1.0 mile upstream of Tomahawk Road | •78
Onslow County (Unincorporated Areas)
Moores Creek Tributary 2:
At the Onslow/Pender County boundary | •47
Approximately 570 feet upstream of NC Highway 53 | •56
Onslow County (Unincorporated Areas)
Moores Creek Tributary 3:
At the confluence with Moores Creek | •44
Approximately 1.2 miles upstream of the confluence with Moores Creek | •62
Onslow County (Unincorporated Areas)
Moores Creek Tributary 4:
At the confluence with Moores Creek | •46
Approximately 385 feet upstream of NC Highway 53 | •69
Onslow County (Unincorporated Areas)
Moores Creek Tributary 5:
At the confluence with Moores Creek Tributary 4 | •52
Approximately 0.7 miles upstream of Andemora Road | •70
Onslow County (Unincorporated Areas)
New River:
Approximately 0.4 miles upstream of the confluence with Blue Creek | •7
Approximately 0.5 miles upstream of State Route 1235 | •73
Unincorporated Areas of Onslow County, City of Jacksonville
New River Tributary:
At the confluence with New River | •50
Approximately 50 feet upstream of A I Taylor Road | •74
Unincorporated Areas of Onslow County
New River Tributary 2:
At the confluence with New River | •9
Approximately 1.1 miles upstream of Richlands Highway | •45
Unincorporated Areas of Onslow County
New River Tributary 3:
At the confluence with New River Tributary 2 | •16
Approximately 1.0 mile upstream of the confluence with New River Tributary 2 | •33
Unincorporated Areas of Onslow County
New River Tributary 4:
At the confluence with New River | •19
Approximately 150 feet upstream of Richlands Highway | •44
Unincorporated Areas of Onslow County
New River Tributary 5:
At the confluence with New River | •22
Approximately 0.4 miles upstream of Duffy Field Road | •42
Unincorporated Areas of Onslow County
New River Tributary 6:
At the confluence with New River Tributary 5 | •25
Approximately 1,700 feet upstream of the confluence with New River Tributary 5 | •27
Unincorporated Areas of Onslow County
New River Tributary 7:
At the confluence with New River Tributary 5 | •26
Approximately 1.7 miles upstream of the confluence with New River Tributary 5 | •44
Unincorporated Areas of Onslow County
Ninemile Creek:
At the Duplin/Onslow County boundary | •54
Approximately 0.2 miles downstream of Davis Road | •76
Onslow County (Unincorporated Areas)
North Branch at Lauradale Subdivision:
At confluence with New River | •9
Approximately 0.7 miles upstream of confluence with New River | •9
Unincorporated Areas of Onslow County
Northeast Creek:
At the confluence of Little Northeast Creek | •2
Approximately 0.6 miles upstream of North Marine Boulevard | •27
Unincorporated Areas of Onslow County, City of Jacksonville
Northeast Creek Tributary:
At the confluence with Northeast Creek | •9
Approximately 0.4 miles upstream of the confluence with Northeast Creek | •10
City of Jacksonville
Northeast Creek Tributary 2:
At the confluence with Northeast Creek | •7
Approximately 0.6 miles upstream of the confluence with Northeast Creek | •9
City of Jacksonville
Parrot Swamp:
Approximately 1,850 feet upstream of Queens Creek Road | •10
Approximately 1.0 mile upstream of Queens Creek Road | •20
Unincorporated Areas of Onslow County
Poplar Creek:
At the confluence with Little Northeast Creek | •3
Approximately 0.4 mile upstream of Waters Road | •26
Unincorporated Areas of Onslow County, City of Jacksonville
Queen Creek:
Approximately 1.2 miles upstream of NC 24 | •10
Approximately 0.5 mile upstream of Camp Lejeune Railroad | •25
Unincorporated Areas of Onslow County
Rocky Run:
At confluence with Little Northeast Creek | •8
Approximately 1,400 feet upstream of confluence with Little Northeaster | •13
Unincorporated Areas of Onslow County
Sandy Run Swamp:
At the Onslow/Pender County boundary | •29
Approximately 0.9 mile upstream of Haws Run Road | •45
Onslow County (Unincorporated Areas)
Sandy Run Swamp Tributary 1:
At the confluence with Sandy Run Swamp | •41
Approximately 1.5 miles upstream of the confluence with Sandy Run Swamp | •45
Onslow County (Unincorporated Areas)
Shelter Swamp Creek:
At the Onslow/Pender County boundary | •34
Approximately 3.2 miles upstream of South Coston Road | •56
Onslow County (Unincorporated Areas)
Shelter Swamp Creek Tributary 1:
At the confluence with Shelter Swamp Creek | •41
Approximately 0.8 mile upstream of the confluence with Shelter Swamp Creek | •41
Onslow County (Unincorporated Areas)
South Branch at Lauradale Subdivision:
At the confluence with North Branch at Lauradale Subdivision | •9
Approximately 1.0 mile upstream of the confluence with North Branch at Lauradale Subdivision | •36
Unincorporated Areas of Onslow County, City of Jacksonville
Southwest Creek:
Approximately 2.5 miles upstream of the confluence with New River | •3
Approximately 0.6 mile upstream of Five Mile Road | •65
Unincorporated Areas of Onslow County, City of Jacksonville
Southwest Creek Tributary 2:
At the confluence with Southwest Creek | •46
Approximately 1.2 miles upstream of Red Lane | •56
Southwest Creek Tributary 3:
At the confluence with Southwest Creek | •54
Approximately 1.7 miles upstream of the confluence with Southwest Creek | •68
Unincorporated Areas of Onslow County
Southwest Creek Tributary 4:
At the confluence with Southwest Creek Tributary 3 | •61
Approximately 1,700 feet upstream of Five Mile Road | •70
Unincorporated Areas of Onslow County
Starkys Creek:
At confluence with White Oak River | •10
Approximately 1,750 feet upstream of I-17 | •44
Unincorporated Areas of Onslow County
Stump Sound:
At the intersection of Chadwick Acres Road and Carroll Street | •8
Approximately 1,000 feet south of the intersection of Harbor Point Road and Ocracoke Road | •11
Stump Sound within the Cape Fear River Basin:
Approximately 0.23 mile south of the intersection of Morris Landing Road and Hardison Road | •8
Along the shoreline at Thomas Landing (at the mouth of Turkey Creek) | •11
Onslow County (Unincorporated Areas)
Tenmile Swamp:
At the confluence with Ninemile Creek | •55
Approximately 1.3 miles upstream of Swinson Road | •74
Onslow County (Unincorporated Areas)
Wallace Creek:
At the upstream side of Norfolk Southern Railway | •3
Approximately 4.2 miles upstream of Holcomb Boulevard | •22
Unincorporated Areas of Onslow County
Wallace Creek Tributary 1:
At the confluence with Wallace Creek | •14
Approximately 500 feet downstream of Lejeune Boulevard | •27
Unincorporated Areas of Onslow County
Webb Creek:
At the confluence with White Oak River | •9
Approximately 1,200 feet downstream of Parkertown Road | •20
Unincorporated Areas of Onslow County
White Oak River:
Approximately 500 feet upstream of the confluence of Webb Creek | •9
At the confluence of Chinkapin Branch | •38
Unincorporated Areas of Onslow County
Wolf Swamp:
At North Marine Boulevard | •22 | Approximately 0.9 mile upstream of Ramsey Road | •42
Town of Holly Ridge
Maps available for inspection at the Holly Ridge Town Hall, 212 Dyson Street, Holly Ridge, North Carolina.
Send comments to The Honorable Elmer Padgett, Mayor of the Town of Holly Ridge, P.O. Box 145, Holly Ridge, North Carolina 28445.
City of Jacksonville
Maps available for inspection at Jacksonville City Hall, 211 Johnson Boulevard, Jacksonville, North Carolina 28541
Send comments to The Honorable George Jones, Mayor of the City of Jacksonville, P.O. Box 128, Jacksonville, North Carolina 28541.
Onslow County (Unincorporated Areas)
Maps available for inspection at the Onslow County Floodplain Administration, 604 College Street, Jacksonville, North Carolina.
Send comments to Mr. Ronald Lewis, Onslow County Manager, 118 Old Bridge Street, Jacksonville, North Carolina 28540-4259.
Town of Richlands
Maps available for inspection at Richlands Town Hall, 106 North Wilmington Street, Jacksonville, North Carolina 28540
Send comments to Mr. Greg Whitehead, Town of Richlands Administrator, P.O. Box 245, Richlands, North Carolina 28574.
———
Wayne County (FEMA Docket Nos. D-7574 and D-7606)
Buck Marsh Branch:
Approximately 0.2 mile downstream of Zion Church Road | •94
Approximately 0.3 mile upstream of James Price Road | •119
Wayne County (Unincorporated Areas)
Cabin Branch:
Approximately 0.9 mile downstream of NC 111 South | •97
At confluence with Buck Marsh Branch | •135
Wayne County (Unincorporated Areas)
Horsepen Branch:
At confluence with Lewis Branch | •120
Approximately 450 feet upstream of Emmaus Church Road | •155
Wayne County (Unincorporated Areas)
Jones Branch:
Approximately 0.4 mile downstream of Mark Herring Road | •101
Approximately 1.0 mile upstream of Mark Herring Road | •133
Wayne County (Unincorporated Areas)
Jumping Run Branch:
Approximately 0.3 mile downstream of NC Highway 55 | •110
Approximately 0.8 mile upstream of NC Highway 55 | •127
Wayne County (Unincorporated Areas)
Lewis Branch:
Just upstream of NC Highway 55 | •115
Approximately 1.4 miles upstream of the confluence of Horsepen Branch | •138
Wayne County (Unincorporated Areas)
Northeast Cape Fear River Tributary:
Approximately 0.6 mile upstream of the confluence with Northeast Cape Fear River | •106
Approximately 750 feet upstream of NC Highway 55 | •137
Wayne County (Unincorporated Areas)
Richland Creek:
Approximately 200 feet upstream of the confluence with Stoney Creek | •85
Approximately 650 feet upstream of Highway 70 | •107
City of Goldsboro, Wayne County (Unincorporated Areas)
Stoney Creek:
At the confluence with the Neuse River | • 71
Approximately 1,000 feet upstream of the confluence of Reedy Branch | •90
City of Goldsboro, Wayne County (Unincorporated Areas)
Appletree Swamp:
Approximately 500 feet downstream of the Wayne/Greene County boundary | •86
Approximately 1.2 miles upstream of the Wayne/Greene County boundary | •99
Wayne County (Unincorporated Areas)
Aycock Swamp:
At the Wayne/Wilson County boundary | •76
Approximately 1.5 miles upstream of Black Creek Road | •113
Town of Fremont, Wayne County (Unincorporated Areas)
Bear Creek:
Approximately 0.2 mile downstream of the Wayne/Greene County boundary | •76
Approximately 150 feet downstream of Rodell Barron Road | •112
Wayne County (Unincorporated Areas)
Beaverdam Creek:
At the upstream side of Rosewood Road | •82
At the Wayne/Johnston County boundary | •124
Wayne County (Unincorporated Areas)
Beaverdam Creek 1:
At the confluence with Falling Creek | •133
Approximately 1.2 miles upstream of U.S. Route 13 | •147
Wayne County (Unincorporated Areas)
Mill Creek North:
Approximately 0.8 mile upstream of the confluence with Little River | •88
Approximately 0.5 mile upstream of Pikeville Princeton Road | •136
Town of Pikeville, Wayne County (Unincorporated Areas)
Mill Creek North Tributary 1:
At the confluence with Mill Creek North | •101
Approximately 1.2 miles upstream of the confluence with Mill Creek North | •136
Wayne County (Unincorporated Areas)
Mill Creek North Tributary 2:
At the confluence with Mill Creek North | •102
Approximately 0.5 mile upstream of Hinnant Road | •134
Wayne County (Unincorporated Areas)
Mill Creek North Tributary 3:
At the confluence with Mill Creek North | •111
Approximately 0.4 mile upstream of Nahunta Road | •136
Wayne County (Unincorporated Areas)
Mill Creek North Tributary 4:
At the confluence with Mill Creek North | •113
Approximately 540 feet upstream of Nahunta Road | •137
Town of Pikeville
Mill Creek North Tributary 5:
At the confluence with Mill Creek North | •115
Approximately 0.3 mile upstream of Nahunta Road | •134
Town of Pikeville
Neuse River:
At the Wayne/Lenoir County boundary | •55
At the confluence with Mill Creek South | •84
Town of Seven Springs, City of Goldsboro, Wayne County (Unincorporated Areas)
Billy Bud Creek:
At the confluence with Stoney Creek | •90
Approximately 0.7 mile upstream of North Berkeley Boulevard | •118
City of Goldsboro, Wayne County (Unincorporated Areas)
Buck Swamp:
At the downstream side of Nor Am Road | •109
Approximately 300 feet upstream of Pikeville Princeton Road | •135
Wayne County (Unincorporated Areas)
Button Branch:
Approximately 100 feet downstream of Saulston Road | •69
Approximately 1,000 feet upstream of the Wayne/Greene County boundary | •70
Wayne County (Unincorporated Areas)
Charles Branch:
Approximately 0.3 mile upstream of the confluence with Beaverdam Creek | •82
Approximately 1.7 miles upstream of the confluence with Beaverdam Creek | •92
Wayne County (Unincorporated Areas)
Falling Creek:
At the confluence of the Neuse River | •84
Approximately 850 feet upstream of South Jordans Chapel Road | •137
Wayne County (Unincorporated Areas)
Great Swamp:
Approximately 500 feet downstream of the Wayne/Wilson County boundary | •97
At the Wayne/Johnston County boundary | •160
Wayne County (Unincorporated Areas)
Great Swamp Tributary 1:
At the Wayne/Wilson County boundary | •93
Approximately 1.6 miles upstream of the Wayne/Wilson County boundary | •115
Town of Fremont, Wayne County (Unincorporated Areas)
Great Swamp Tributary 2:
At the confluence with Great Swamp | •99
Approximately 1.4 miles upstream of the confluence with Great Swamp | •110
Town of Fremont, Wayne County (Unincorporated Areas)
Great Swamp Tributary 3:
At the confluence with Great Swamp | •125
Approximately 0.5 mile upstream of Atlantic Road | •156
Wayne County (Unincorporated Areas)
Great Swamp Tributary 4:
At the confluence with Great Swamp | •129
Approximately 0.6 mile upstream of Joe Morris Road | •138
Wayne County (Unincorporated Areas)
Howells Branch:
Approximately 850 feet upstream of East Patetown Road | •106
Approximately 130 feet upstream of Tommys Road | •113
City of Goldsboro, Wayne County (Unincorporated Areas)
Ivy Branch:
At the Wayne/Wilson County boundary | •68
Approximately 1.3 miles upstream of St. James Church Road | •87
Wayne County (Unincorporated Areas)
Juniper Swamp:
At the confluence with Great Swamp | •103
Approximately 0.2 mile upstream of the confluence with White Oak Swamp | •117
Wayne County (Unincorporated Areas)
Lee Branch:
Approximately 200 feet upstream of McKee Oil Company | •142
Approximately 0.3 mile upstream of Hatchs Hill Lane | •148
Town of Mount Olive, Wayne County (Unincorporated Areas)
Mills Creek:
Approximately 0.2 mile upstream of Highway 13 | •115
Approximately 1.5 miles upstream of Highway 13 | •124
City of Goldsboro, Wayne County (Unincorporated Areas)
Nahunta Swamp:
At State Highway 581 | •124
Approximately 0.7 mile upstream of Old Kenley Road | •136
Wayne County (Unincorporated Areas)
Nahunta Swamp Tributary:
Approximately 1,500 feet upstream of the confluence with Nahunta Swamp | •88
Approximately 0.3 mile upstream of St. Highway 222 | •108
Wayne County (Unincorporated Areas)
Stoney Creek Tributary:
Approximately 100 feet upstream of Stoney Creek Church Road | •109
Approximately 0.4 mile upstream of Stoney Creek Church Road | •113
Wayne County (Unincorporated Areas)
Thorough Fare Swamp:
Downstream side of Grantham School Road | •123
Approximately 1.7 miles upstream of Odom Mill Road | •152
Wayne County (Unincorporated Areas)
Thunder Swamp:
At the downstream side of Old Smith Chapel Road | •137
At the upstream side of Daughery Field Road | •160
Town of Mount Olive, Wayne County (Unincorporated Areas)
Thunder Swamp Tributary:
The upstream side of Highway 55 | •150
Approximately 0.7 mile upstream of Highway 55 | •157
Town of Mount Olive, Wayne County (Unincorporated Areas)
Turner Swamp:
At the Wayne/Wilson County boundary | •77
Approximately 0.4 mile downstream of North Church Street | •104
Town of Eureka, Wayne County (Unincorporated Areas)
Walnut Creek:
At the confluence with the Neuse River | •60
Approximately 0.7 mile upstream of Miller Chapel Road | •116
City of Goldsboro, Village of Walnut Creek, Wayne County (Unincorporated Areas)
Walnut Creek Tributary D:
At the confluence with Walnut Creek | •98
Approximately 0.7 miles upstream of Powell Road | •105
Wayne County (Unincorporated Areas)
Watery Branch:
Approximately 250 feet downstream of the Wayne/Greene County boundary | •73
Approximately 2.5 miles upstream of Old Mill Road | •108
Town of Eureka, Wayne County (Unincorporated Areas)
Yellow Marsh Branch:
Approximately 180 feet upstream of railroad | •155
Approximately 0.3 mil upstream of railroad | •157
Wayne County (Unincorporated Areas)
White Oak Swamp:
At the confluence with Juniper Swamp | •113
Approximately 0.5 mile upstream of Juniper Swamp | •122
Wayne County (Unincorporated Areas)
Contentnea Creek:
Approximately 0.8 mile upstream of Highway 58 | •62
At the downstream side of Highway 222 | •64
Wayne County (Unincorporated Areas)
Mill Creek (South)
At the confluence with the Neuse River | •83
Approximately 800 feet upstream of the confluence with the Neuse River | •83
Wayne County (Unincorporated Areas)
Reedy Branch:
At the confluence of Stoney Creek | •90
Approximately 2,500 feet upstream of the confluence with Stoney Creek | •90
City of Goldsboro, Wayne County (Unincorporated Areas)
Big Ditch:
At the confluence with the Neuse River | •74
Approximately 0.3 mile upstream of U.S. Highway 70 | •119
City of Goldsboro
Little River:
At the confluence with Neuse River | •74
Approximately 0.3 mile upstream of Stevens Mill Road | •75
City of Goldsboro
Burden Creek:
At the confluence with Moccasin Creek | •84
Approximately 750 fee upstream of the confluence with Moccasin Creek | •84
Wayne County (Unincorporated Areas)
Moccasin Creek:
At the confluence with the Neuse River | •84
At the Johnston/Wayne County boundary | •84
Wayne County (Unincorporated Areas)
Sleepy Creek:
At the confluence with the Neuse River | •65
Approximately 0.9 mile upstream of the confluence with the Neuse River | •65
Wayne County (Unincorporated Areas)
Town of Eureka
Maps available for inspection at the Eureka Town Hall, 103 West Main Street, Eureka, North Carolina.
Town of Fremont
Maps available for inspection at the Fremont Town Hall, 202 North Goldsboro Street, Fremont, North Carolina.
City of Goldsboro
Maps available for inspection at the City of Goldsboro Engineering Department, 222 North Center Street, Goldsboro, North Carolina.
Town of Pikeville
Maps available for inspection at the Pikeville Town Hall, 112 Southwest Railroad Street, Pikeville, North Carolina.
Town of Seven Springs
Maps available for inspection at the Seven Springs Town Hall, 508 Church Street, Seven Springs, North Carolina.
Village of Walnut Creek
Maps available for inspection at the Walnut Creek Village Hall, 100 Village Drive, Goldsboro, North Carolina.
Unincorporated Areas of Wayne County
Maps available for inspection at the Wayne County Planning Department, 224 East Walnut Street, Goldsboro, North Carolina.
TENNESSEE
Benton County (FEMA Docket No. D-7612)
Kentucky Lake/Big Sandy River:
Along the northwestern County boundary | *375
Town of Big Sandy, Benton County (Unincorporated Areas)
Kentucky Lake/Tennessee River:
Approximately 1.5 miles upstream of I-40 | *375
At the southern County boundary | *375
Benton County (Unincorporated Areas)
Burnside Creek:
Approximately 0.6 mile upstream of East Lake Street | *381
Approximately 500 feet upstream of Stigall Street | *393
City of Camden
Cane Creek:
At the confluence of Charlie Creek | *378
Approximately 450 feet upstream of Post Oak Avenue | *426
City of Camden
Charlie Creek:
At the confluence with Cane Creek | *378
Approximately 0.2 mile upstream of Mimosa Street | *438
City of Camden
Cypress Creek:
Just upstream of Old Route 70 | *378
Approximately 700 feet upstream of U.S. Route 70 | *383
City of Camden
Benton County (Unincorporated Areas)
Maps available for inspection at the Benton County Courthouse, 1 East Court Square, Room 102, Camden, Tennessee.
Town of Big Sandy
Maps available for inspection at the Big Sandy Town Hall, 65 Front Street, Big Sandy, Tennessee.
City of Camden
Maps available for inspection at the Camden City Hall, 110 Highway 641 South, Camden, Tennessee.

(Catalog of Federal Domestic Assistance No. 83.100, “Flood Insurance.”)
Dated: July 20, 2005.
David I. Maurstad,
Acting Director, Mitigation Division, Emergency Preparedness and Response Directorate.

[FR Doc. 05-14662 Filed 7-25-05; 8:45 am]

BILLING CODE 9110-12-P